DEPARTMENT OF HEALTH AND HUMAN SERVICES

Centers for Disease Control and Prevention

[60Day-05-0106]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Preventive Health and Health Services Block Grant, Annual Application and Reports, OMB No. 0920-0106-Extension—National Center for Chronic Disease Prevention and Health Promotion (NCCDPHP), Centers for Disease Control and Prevention (CDC).

Background and brief description:

In 1994, OMB approved the collection of information provided in the grant applications and annual reports for the Preventive Health and Health Services (PHHS) Block Grant (OMB No. 0920-0106). This approval expires on January 31, 2005. CDC is requesting OMB clearance for this legislatively mandated information collection until January 31, 2008. The request is to approve the development and adherence to Healthy People 2010 (the Nation's Health Objectives) which was released in the Spring of 2000. The PHHS block grant is mandated according to section 1904 to adhere to the Healthy People framework.

This information, which is collected through the application forms from the official State health agencies, is required from section 1905 of the Public Health Service Act. There is a slight change in the proposed information collection from previous years. The changes include more program specific information and the relationship of block funded activities to program strategy. The information collected from the annual report forms is required by section 1906. The development of a PHHS block grant web page, with data web links from existing federal databases, will be used to coincide with the collection of uniform data for the annual report. The availability to collect data through internet accessibility will allow for a more streamlined and efficient use of data processing by the states and reduce the states' burden of duplicate reporting on outcome and risk factor data. There is no cost to respondents except their time to complete the application/report.

Annualized Burden Table
Forms | No. of respondents | No. of responses/respondent | Average burden per response in hours | Total burden
Annual applications | * 61 | 1 | 30 | 1830
Annual reports | 61 | 1 | 40 | 2440
Total |  |  |  | 4270
* There are 61 respondents (Official State Health Agencies from the 50 States, the District of Columbia, 8 U.S. Territories, and two American Indian Tribes (Santee Sioux and Kickapoo of Kansas). The response burden consists of an annual application and an annual report (with selected summary data items).

Dated: November 12, 2004.
B. Kathy Skipper,
Acting Director, Management Analysis and Services Office, Centers for Disease Control and Prevention.

[FR Doc. 04-26020 Filed 11-23-04; 8:45 am]

BILLING CODE 4163-18-P